DEPARTMENT OF HOMELAND SECURITY

Coast Guard

[Docket No. USCG-2022-0047]

Port Access Route Study: Approaches to Maine, New Hampshire, and Massachusetts

Correction

In notice document 2022-28482 appearing on pages 83-85 in the issue of Tuesday, January 3, 2023, make the following correction:

1. On page 84, in the first column, in the DATES section, in the 5th line, “February 2, 2022” should read “February 2, 2023”.

[FR Doc. C1-2022-28482 Filed 1-31-23; 8:45 am]

BILLING CODE 0099-10-P